ENVIRONMENTAL PROTECTION AGENCY

40 CFR Part 300

[FRL-7899-4]

National Oil and Hazardous Substances Pollution Contingency Plan; National Priorities List

AGENCY: Environmental Protection Agency.

ACTION: Notice of Intent to Delete Naval Magazine Indian Island, Port Hadlock from the National Priorities List.

SUMMARY: The Environmental Protection Agency (EPA), Region 10, announces its intent to delete the Naval Magazine Indian Island Site (Site) located in Port Hadlock, Washington from the National Priorities List (NPL) and requests public comment on this proposed action. The NPL constitutes appendix B of 40 CFR part 300 which is the National Oil and Hazardous Substances Pollution Contingency Plan (NCP), which EPA promulgated pursuant to section 105 of the Comprehensive Environmental Response, Compensation and Liability Act (CERCLA) of 1980, as amended. EPA and the State of Washington have determined that the remedial action for the Site has been successfully executed by the Navy and no further response under CERCLA is needed.

DATES: Comments concerning the proposed deletion of this Site from the NPL may be submitted on or before May 16, 2005.

ADDRESSES: Comments may be mailed to: Beverly Gaines, EPA Point of Contact, U.S. Environmental Protection Agency, Region 10, 1200 Sixth Avenue, Mail Stop, ECL-110, Seattle, Washington 98101. Comprehensive information on this Site is available in the Administrative Record which is available for reviewing at Engineering Field Activity, Northwest, 19917 Seventh Avenue NE., Poulsbo, Washington 98370, (360) 396-0018. Information on the Site and a copy of the deletion docket are available for viewing at the Information Repositories which are located at: Jefferson County Library, 620 Cedar Avenue, Port Hadlock, Washington 98339, (360) 385-6544, and at: U.S. Environmental Protection Agency, Region 10, Superfund Records Center, 1200 Sixth Avenue, Seattle, Washington 98101, (206) 553-4494.

FOR FURTHER INFORMATION CONTACT: Beverly Gaines, EPA Point of Contact, U.S. Environmental Protection Agency, Region 10, 1200 Sixth Avenue, Mail Stop, ECL-110, Seattle, Washington 98101, phone: (206) 553-1066, fax: (206) 553-0124, e-mail: gaines.beverly@epa.gov.

SUPPLEMENTARY INFORMATION:

Table of Contents

I. Introduction

II. NPL Deletion Criteria

III. Deletion Procedures

IV. Basis of Intended Site Deletion

I. Introduction

The U.S. Environmental Protection Agency Region 10 announces its intent to delete the Naval Magazine Indian Island, which is located near Port Hadlock, Washington, from the National Priorities List (NPL) and requests public comment on this proposed action. The NPL constitutes Appendix B of 40 CFR part 300 which is the National Oil and Hazardous Substances Pollution Contingency Plan (NCP), which EPA promulgated pursuant to section 105 of the Comprehensive Environmental Response, Compensation and Liability Act (CERCLA) of 1980, as amended. EPA identifies sites that appear to present a significant risk to public health, welfare, or the environment and maintains the NPL as the list of these sites.

The Naval Magazine Indian Island NPL Site covers approximately 2,700 acres. The remedial action focused primarily on a 3.7 acre landfill that operated from the 1940's until the mid 1970's and received a variety of solid and hazardous wastes. The Record of Decision for Indian Island signed in August 1995 by the Navy, EPA, and the State of Washington Department of Ecology (Ecology), specified remedial actions for the Northend Landfill and addressed several other areas of contamination. The Navy has conducted cleanup activities at the Site under the oversight of EPA and Ecology pursuant to an Interagency Agreement between the Navy, EPA, and Ecology. EPA and Ecology have determined that remedial action for the Site has been successfully completed by the Navy. The Site is an active Naval base used primarily for handling and storage of Naval ordnance. After deletion from the NPL, Ecology will continue its oversight activities at the Site.

EPA will accept comments on the proposal to delete the Site for thirty (30) days after publication of this document in the Federal Register. Section II of this document explains the criteria for deleting sites from the NPL. Section III discusses the procedures EPA is using for this action. Section IV discusses the Indian Island Site and explains how the site meets the deletion criteria.

II. NPL Deletion Criteria

Section 300.425(e) of the NCP provides that sites may be deleted from, or recategorized on the NPL, where no further response is appropriate. In making a determination to delete a site from the NPL, EPA shall consider, in consultation with the State, whether any of the following criteria have been met:

(i) Responsible parties or other parties have implemented all appropriate response actions required; or

(ii) All appropriate Fund-financed responses under CERCLA have been implemented, and no further response action by responsible parties is appropriate, or

(iii) The remedial investigation has shown that the release poses no significant threat to public health or to the environment and, therefore, taking remedial measures is not appropriate.

Even if a site is deleted from the NPL, where hazardous substances, pollutants or contaminants remain at a site above levels that allow for unlimited use and unrestricted exposure, a subsequent review of the site will be conducted at least every five years after the initiation of the remedial action at the site to ensure that the site remains protective of public health and the environment. If new information becomes available which indicates a need for further action, the Navy may initiate additional remedial actions. Whenever there is a significant release from a deleted site from the NPL, a site may be restored to the NPL without application of the Hazard Ranking System. In the case of this Site, the selected remedy is protective of human health and the environment. However, because the remedy leaves waste on Site (only at the Northend Landfill) above levels that allow for unlimited use and unrestricted exposure, a review of the selected remedy will be conducted at least every five years from initiation of the remedial action. EPA's decision on this deletion will not change the listing of Naval Magazine Indian Island on the Washington State Hazardous Sites List.

III. Deletion Procedures

The following procedures were used for the intended deletion of this Site: The Navy, the responsible party for the Site, has implemented all appropriate response actions required, the State of Washington has concurred with the proposed deletion decision, and a notice will be published in the local newspapers and distributed to appropriate federal, state, and local officials and other interested parities announcing the commencement of a 30-day public comment period on EPA's Notice of Intent to Delete; and all relevant documents have been compiled in the site deletion docket and made available in the local site information repositories.

Deletion of the site from the NPL does not in itself, create, alter or revoke any individual's rights or obligations. The NPL is designed primarily for informational purposes and to assist Agency management. As mentioned in section II of this action, § 300.425(e)(3) of the NCP states that the deletion of the site from the NPL does not preclude eligibility for future response actions. For deletion of this Site, EPA's Regional Office will accept and evaluate public comments on EPA's Notice of Intent to Delete before making a final decision to delete. If necessary, the Agency will prepare a Responsiveness Summary to address any significant public comments received. A deletion occurs when the Regional Administrator places a final notice in the Federal Register. Generally, the NPL will reflect deletions in the final update following the notice. Public notices and copies of the Responsiveness Summary will be made available to local residents by the Regional Office.

IV. Basis for Intended Site Deletion

The following Site summary provides the Agency's rational for the proposal to delete this Site from the NPL.

Site Background and History

Naval Magazine Indian Island (formerly named Naval Ordnance Center, Pacific Division, Detachment Port Hadlock) is on Indian Island in Jefferson County, Washington, southeast of Port Townsend and east of Hadlock. This island is bordered by Kilisut Harbor to the east, Port Townsend Bay to the west and north, and Oak Bay and Portage Canal to the south. Indian Island is wholly owned by the Navy and is approximately five miles long and covers approximately 2,700 aces. No private residences are present on Naval Magazine Indian Island, however, there are approximately 14 military residences. A public highway connects the Olympic Peninsula with Indian Island and Marrowstone Island, an island east of Port Hadlock Detachment which supports fewer than 250 private residences. The nearest Olympic Peninsula communities are Port Hadlock and Irondale, both less than two miles west of Indian Island across Port Townsend Bay.

The Navy purchased the island in 1939 and primarily used it for munitions storage and handling. In total, nineteen locations at the Site were identified where contamination may have represented a risk to human health or the environment. Potential sources of hazardous substances identified included municipal and industrial landfills, drum and container storage areas, above and below ground storage tanks, burn pits, and disposal pits. Disposal activities at several site locations resulted in soil, groundwater, sediment and shellfish contamination. The contaminants were ordnance compounds, heavy metals, polychlorinated biphenyls (PCBs), and pesticides. Naval Magazine Indian Island was proposed for listing on the NPL on June 23, 1993 (58 ance FR 34018) and listed to the NPL on May 31, 1994 (59 FR 27989).

All locations have been investigated and determined to require no cleanup action or have been cleaned up to a condition that allows for unlimited use and unrestrictive exposure, except for the Northend Landfill. All investigation and cleanup activities were conducted by the Navy pursuant to the Interagency Agreement between the Navy, EPA, and Ecology. A summary of cleanup activities conducted at the Site can be found in the Final Closeout Report which is available at the information repositories. More detailed information about CERCLA activities at the Site can be obtained in the Administrative Record. Following is a discussion of remedial activities conducted at the Northend Landfill.

Northend Landfill (Also Referred to as Site 10)

The Northend Landfill is an approximately 3.7-acre landfill on the north end of Naval Magazine Indian Island. The site is relatively flat and is covered with grass. The landfill is located on Boggy Spit; it extends to the beach and had partially eroded onto the beach. This site was used as the primary landfill for the island from about 1945 until the mid-1970s. An incinerator burned materials at the site from the 1940s to 1953. Materials reportedly disposed of in the landfill include paint, thinners, strippers, oil, lead and zinc batteries, asbestos, submarine nets, metal parts, polyurethane resins, and zinc-plating slag. Various site investigations have been conducted at the landfill since 1987, including soil, groundwater, marine sediment, and shellfish sampling, with chemical analyses for a wide range of constituents. Low concentrations of semivolatile organic compounds, pesticides, and metals were detected in the soil and groundwater. The results of the investigation were included in the final remedial investigation/feasibility study (RI/FS) . Concurrent with the RI/FS, human health and ecological risk assessments were completed by the Navy in 1993.

Selected Remedy for the Northend Landfill

To mitigate potential risks posed to human health and the environment, the ROD selected the following remedial actions for the landfill:

—Placing a landfill cap over approximately 3.7 acres.

—Placing erosion protection along approximately 900 linear feet of the landfill perimeter and shoreline.

—Removal of eroded landfill debris located in the intertidal area, excavating landfill contents from the water edge of the landfill in order to construct the erosion protection.

—Implementing institutional controls, which include a temporary prohibition on shellfish harvesting at Beaches 1, 2 and 19 around Boggy Spit and land use restrictions for residential use and farming. Upon base closure, deed restrictions on activities destructive to the cap and erosion protection will be attached to any property transfer, and requirements for continued operation and maintenance of the landfill cap and erosion protection will be addressed.

—Conducting a monitoring program for groundwater, sediment, and shellfish. Groundwater monitoring will be used to measure the protectiveness of the landfill cap by monitoring the level of contaminants in the pathway from the landfill to marine habitat. The results of shellfish monitoring will be used to determine when the shellfish are safe to eat. The results of the monitoring program will be reviewed in detail at the conclusion of the monitoring period to determine whether additional monitoring is necessary.

—Conducting regular maintenance and inspection of the landfill cap and the erosion protection, particularly after storm events.

—Conducting five-year reviews.

Cleanup

Mobilization and remedial construction began in July 1996. The implementation of archaeological mitigation field activities and collection of vegetation (e.g., willow whips and dune grass) to be used in shoreline protection system began concurrently with construction mobilization. In August and September 1996, work progressed to the installation of the armor-rock section of the shoreline protection system in the High Energy Area and the quarry spall base and bench for the Low and Very Low Energy Areas. Approximately 1,000 cubic yards of excavated material from the installation of the armor-rock section were re-graded over the old landfill surface and then compacted. The approximately 10,000 cubic yards of imported material used for the test fills were re-graded and compacted over the site to establish a rough grade. Additional import material was placed to establish a final grade. To reduce environmental impacts, waste was not relocated or disposed of off site. Rather, landfill waste excavated from the intertidal area during beach cleanup and armor-rock placement was placed and capped within the landfill. As a result, no waste characterization sampling and analysis were conducted during the remedial construction. After the final grade was established in October 1996, a gas collection system was installed in the landfill area. The purpose of the landfill gas system was to vent landfill gas (although none had been detected in studies done for the Olympic Air Pollution Control Authority) and, more importantly, to equalize air pressure under the cap from wave action. Various components of the landfill cap (covering approximately three acres), soil cover, and storm drains were installed as weather allowed from October 1996 through January 1997. On September 26, 1997, the Navy issued the Preliminary Closeout Report signifying successful completion of construction activities. EPA and Ecology concurred with the findings in the report.

Operation and Maintenance

The ROD required that the selected remedy for the Northend Landfill include an O&M program to be conducted by the Navy. O&M activities began in 1997, immediately following completion of the Remedial Action for the landfill. O&M activities are described in the O&M Plan and include inspection, maintenance, and repair of the functional features of the landfill cap and shoreline protection system. These functional features include the landfill cap system, landfill gas collection system, landfill perimeter road, stormwater drainage system, irrigation system, hillside and site access road inspection, log revetment/anchor system, armor-rock shoreline protection system, and vegetated geogrid. Pursuant to the 2004 Explanation of Significant Differences (ESD), the O&M Plan was revised to include institutional controls requirements.

Five-Year Reviews

CERCLA requires a five-year review of all sites with hazardous substances remaining above health-based levels for unrestricted use of the site. Since the cleanup of the Northend Landfill utilized containment of hazardous materials as the method to reduce risks, the 5-year review process will be used to insure that hazardous substances remain encased within the landfill and that human health and the environment continue to be protected. In September 2000, the Navy conducted the first 5-year review for the Site under the oversight of EPA and Ecology. The 2000 5-year review concluded that the remedy is protective of human health and the environment. Subsequent five-year reviews will be completed no later than five years after the date of the previous five-year review.

Institutional Controls

The ROD requires institutional controls as a component of the selected remedy for the Northend Landfill including a temporary prohibition on shellfish harvesting at beaches around Boggy Spit and land use restrictions for residential use and farming.

An Explanation of Significant Differences (ESD) was signed on November 19, 2004, for the Record of Decision pertaining to the Northend Landfill at the Naval Magazine Indian Island. The ESD clarifies both the site-specific institutional control requirements and establishes the requirement for how the Navy will implement, maintain, and monitor these site-specific requirements for the Northend Landfill. Institutional controls are needed at the landfill because it contains hazardous substances above levels that allow for unlimited use and unrestricted exposure. Human health and the environment will be protected as long as the institutional controls are maintained by the Navy. By addressing the institutional controls requirements in greater detail, the ESD clarified but did not change the selected remedies. The ESD affirmed that the selected remedies remain protective of human health and the environment, comply with federal and state requirements that were identified in the ROD as applicable or relevant and appropriate to the remedial action at the time of the original ROD, and are cost effective.

Major Community Involvement Activities

The Navy, with the support of EPA and Ecology, has maintained an ongoing commitment to community involvement since preparation of the initial Community Relations Plan in 1989. The community has been informed of progress at the Site through newspaper ads, fact sheets, open houses, and public meetings. The Proposed Plan was circulated for public review and comment prior to preparation of the Record of Decision. Key documents have been available for review at the nearest public library located in Port Hadlock. A Technical Review Committee, consisting of interested community members and representatives of various governmental entities, was established in 1991 and meet periodically to discuss Site related issues. The Technical Review Committee was replaced by a Restoration Advisory Board in 1995 and met periodically until major work at the Site was completed in 2000.

The major documents and information which EPA relied on or considered in deciding that the Site can be deleted from the NPL, are available for the public to review at the information repositories.

Applicable Deletion Criteria/State Concurrence

One of the three criteria for site deletion specifies that EPA may delete a site from the NPL if “responsible parties have implemented all appropriate response actions required.” EPA, with the concurrence of the State of Washington, believe that this criterion for deletion has been met. Subsequently, EPA is proposing deletion of this Site from the NPL. Documents supporting this action are available from the docket.

State Concurrence

The Washington Department of Ecology concurs with the proposed deletion of the Naval Magazine Indian Island Site from the NPL.

Dated: March 18, 2005.
Ronald A. Kreizenbeck,
Acting Regional Administrator, Region 10.

[FR Doc. 05-7411 Filed 4-14-05; 8:45 am]

BILLING CODE 6560-50-P